FEDERAL MARITIME COMMISSION

[Docket No. 09-01]

Mitsui O.S.K. Lines Ltd. v. Global Link Logistics, Inc., Olympus Partners, L.P., Olympus Growth Fund III, L.P., Olympus Executive Fund, L.P., Louis J. Mischianti, David Cardenas, Keith Heffernan, CJR World Enterprises, Inc. and Chad J. Rosenberg; Notice of Filing of Complaint and Assignment

Notice is given that a complaint has been filed with the Federal Maritime Commission (“Commission”) by Mitsui O.S.K. Lines Ltd. (“MOL”), hereinafter “Complainant.” Complainant asserts that it is a corporation organized and existing pursuant to the laws of Japan and is a vessel-operating common carrier in the U.S. foreign trades. Complainant alleges that Respondent Global Link Logistics, Inc. (“Global Link”) is a corporation organized under the laws of Delaware that operates as a licensed non-vessel-operating common carrier; that Respondents Olympus Growth Fund III, L.P. (“OGF”) and Olympus Executive Fund, L.P. (“OEF”) are Delaware limited partnerships that were owners of Global Link; that Respondent Olympus Partners L.P. (“Olympus Partners”) is a Delaware limited partnership that is a private equity firm affiliated with OGF and OEF; that Respondents Louis J. Mischianti, David Cardenas, and Keith Heffernan, are the partners in Olympus Partners, and were officers and directors of Global Link; that Respondent CJR World Enterprises, Inc. (“CJR”), is a Florida corporation that was an owner of Global Link; and that Respondent Chad Rosenberg is the owner of CJR and was an officer and director of Global Link.

Complainant alleges that Respondents violated the Shipping Act of 1984, as amended (“Shipping Act”), by: (1) Engaging in a deliberate scheme to obtain ocean transportation of property at rates lower than the applicable service contract or tariff rates; and (2) failing to establish, observe and enforce just and reasonable practices relating to or connected with receiving, handling, and delivering property. 46 U.S.C. 41102(a), (c). Complainant also asserts that Respondents violated the Commission's regulations at 46 CFR 515.31(e) which prohibits preparation or filing of false or fraudulent claims or false information relative to an Ocean Transportation Intermediary transaction. Complainant claims that, as a direct result of Respondents' actions, Complainant suffered damages of no less than $4.5 million.

Specifically, Complainant MOL asserts that it provided transportation to Global Link subject to MOL's tariff rules; including rules related to the diversion of cargo, defined as a change in the original billed destination. Complainant maintains that its tariff rules require shippers to request diversion of cargo in writing and require payment of a diversion charge, as well as the difference in price between the original and new destination. Complainant alleges that Respondent Global Link booked cargo to false inland destinations while intending to deliver the cargo to different inland destinations, and diverted cargo without submitting a request to Complainant or paying Complainant the difference in rate and the applicable diversion changes. Complainant claims that Respondents referred to this practice as “split routing,” “mis-booking,” and re-routing.” This practice, Complainant contends, resulted in lower rates paid to Complainant than the rates applicable to the actual destinations.

Complainant requests that the Commission: (1) Require Respondents to answer the charges in this Complaint; (2) order Respondents to cease and desist from the violations of the Shipping Act; (3) establish and put in force such practices as the Commission determines lawful and reasonable; (3) order Respondents to pay to the Complainant reparations plus interests, costs and attorney's fees, and any other damages to be determined; and (4) take any other action or provide any other relief as the Commission determines to be proper, fair and just under the circumstances. Complainant also requests that a hearing be held in Washington, DC.

This proceeding has been assigned to the Office of Administrative Law Judges. Hearing in this matter, if any is held, shall commence within the time limitations prescribed in 46 CFR 502.61, and only after consideration has been given by the parties and the presiding officer to the use of alternative forms of dispute resolution. The hearing shall include oral testimony and cross-examination in the discretion of the presiding officer only upon proper showing that there are genuine issues of material fact that cannot be resolved on the basis of sworn statements, affidavits, depositions, or other documents or that the nature of the matter in issue is such that an oral hearing and cross-examination are necessary for the development of an adequate record. Pursuant to the further terms of 46 CFR 502.61, the initial decision of the presiding officer in this proceeding shall be issued by May 14, 2010, and the final decision of the Commission shall be issued by September 13, 2010.

Karen V. Gregory,
Secretary.

[FR Doc. E9-11755 Filed 5-20-09; 8:45 am]

BILLING CODE 6730-01-P